SECURITIES AND EXCHANGE COMMISSION

[Release No. 34-95074; File No. SR-CboeBZX-2022-017]

Self-Regulatory Organizations; Cboe BZX Exchange, Inc.; Notice of Withdrawal of Proposed Rule Change To Amend BZX Rule 11.17, Clearly Erroneous Executions

June 9, 2022.

On March 7, 2022, Cboe BZX Exchange, Inc. (the “Exchange”) filed with the Securities and Exchange Commission (“Commission”), pursuant to Section 19(b)(1) of the Securities Exchange Act of 1934 (“Act”) ¹ and Rule 19b-4 thereunder,² a proposed rule change to (i) make the current clearly erroneous execution (“CEE”) pilot program permanent, and (ii) limit the circumstances where CEE reviews would continue to be available during Regular Trading Hours. The proposed rule change was published for comment in the Federal Register on March 11, 2022.³ On April 19, 2022, the Commission designated a longer period for Commission action on the proposed rule change, until June 9, 2022.⁴ The Commission has received no comment letters on the proposal.

¹ 15 U.S.C. 78s(b)(1).

² 17 CFR 240.19b-4.

³ See Securities Exchange Act Release No. 94374 (March 7, 2022), 87 FR 14062.

⁴ See Securities Exchange Act Release No. 94744, 87 FR 24351 (April 25, 2022).

On June 8, 2022, the Exchange withdrew the proposed rule change (File No. SR-CboeBZX-2022-017).

For the Commission, by the Division of Trading and Markets, pursuant to delegated authority.⁵
⁵ 17 CFR 200.30-3(a)(12).
J. Matthew DeLesDernier,
Assistant Secretary.

[FR Doc. 2022-12838 Filed 6-14-22; 8:45 am]

BILLING CODE 8011-01-P